DEPARTMENT OF STATE

[Public Notice 6232]

Determination and Certification Under Section 40A of the Arms Export Control Act

Pursuant to Section 40A of the Arms Export Control Act (22 U.S.C. 2781), and Executive Order 11958, as amended, I hereby determine and certify to the Congress that the following countries are not cooperating fully with United States antiterrorism efforts: Cuba; Eritrea; Iran; North Korea; Syria; Venezuela.

I hereby notify that the decision to retain the certification of North Korea pursuant to Section 40A of the Arms Export Control Act comes during an ongoing review of the designation of North Korea as a state sponsor of terrorism. The outcome of this review may warrant a re-assessment of whether North Korea should be included among the Countries certified as not cooperating fully with United States antiterrorism efforts.

This determination and certification shall be transmitted to the Congress and published in the Federal Register.

Dated: May 14, 2008.
John D. Negroponte,
Deputy Secretary of State, Department of State.

[FR Doc. E8-11255 Filed 5-19-08; 8:45 am]

BILLING CODE 4710-10-P